DEPARTMENT OF TRANSPORTATION

Federal Aviation Administration

14 CFR Part 39

[Docket No. FAA-2007-0227; Directorate Identifier 2007-NM-159-AD; Amendment 39-15454; AD 2008-08-02]

RIN 2120-AA64

Airworthiness Directives; Boeing Model 727 Airplanes

AGENCY: Federal Aviation Administration (FAA), DOT.

ACTION: Final rule.

SUMMARY: We are adopting a new airworthiness directive (AD) for all Boeing Model 727 airplanes. This AD requires repetitive inspections for cracking or corrosion of the threaded end of the lower segment of the main landing gear (MLG) side strut, and corrective actions if necessary. This AD also requires prior or concurrent inspection for cracking or corrosion of the threads and thread relief area of the lower segment, corrective action if necessary, and re-assembly using corrosion inhibiting compound. This AD results from reports of the threads cracking on the MLG side strut lower segment. We are issuing this AD to prevent a fractured side strut, which could result in collapse of the MLG.

DATES: This AD is effective May 19, 2008.

The Director of the Federal Register approved the incorporation by reference of certain publications listed in this AD as of May 19, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Berhane Alazar, Aerospace Engineer, Airframe Branch, ANM-120S, FAA, Seattle Aircraft Certification Office, 1601 Lind Avenue, SW., Renton, Washington 98057-3356; telephone (425) 917-6577; fax (425) 917-6590.

SUPPLEMENTARY INFORMATION:

Discussion

We issued a notice of proposed rulemaking (NPRM) to amend 14 CFR part 39 to include an airworthiness directive (AD) that would apply to all Boeing Model 727 airplanes. That NPRM was published in the Federal Register on November 26, 2007 (72 FR 65913). That NPRM proposed to require repetitive inspections for cracking or corrosion of the threaded end of the lower segment of the main landing gear (MLG) side strut, and corrective actions if necessary. That NPRM also proposed to require prior or concurrent inspection for cracking or corrosion of the threads and thread relief area of the lower segment, corrective action if necessary, and re-assembly using corrosion inhibiting compound.

Comments

We gave the public the opportunity to participate in developing this AD. We considered the single comment received. Boeing supports the NPRM.

Conclusion

We reviewed the relevant data, considered the comments received, and determined that air safety and the public interest require adopting the AD as proposed.

Costs of Compliance

There are about 842 airplanes of the affected design in the worldwide fleet. This AD affects about 459 airplanes of U.S. registry. The following table provides the estimated costs for U.S. operators to comply with this AD. The average labor rate is $80 per work hour.

Estimated Costs
Action | Work hours | Average labor rate per hour | Cost per airplane | Fleet cost
Inspection | 12 | $80 | $960, per inspection cycle | $440,640, per inspection cycle.
Prior/concurrent actions | Up to 6 | 80 | Up to $480 | Up to $220,320.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-08-02 Boeing: Amendment 39-15454. Docket No. FAA-2007-0227; Directorate Identifier 2007-NM-159-AD.

Effective Date

(a) This airworthiness directive (AD) is effective May 19, 2008.

Affected ADs

(b) None.

Applicability

(c) This AD applies to all Model 727, 727C, 727-100, 727-100C, 727-200, and 727-200F series airplanes, certificated in any category.

Unsafe Condition

(d) This AD results from reports of the threads cracking on the main landing gear (MLG) side strut lower segment. We are issuing this AD to prevent a fractured side strut, which could result in collapse of the MLG.

Compliance

(e) You are responsible for having the actions required by this AD performed within the compliance times specified, unless the actions have already been done.

Inspections and Corrective Actions

(f) At the latest applicable time in paragraph (f)(1), (f)(2), or (f)(3) of this AD: Do detailed and magnetic particle inspections for cracking or corrosion of the threaded end of the lower segment of the MLG side strut and do all applicable corrective actions as specified in the Accomplishment Instructions of Boeing Special Attention Service Bulletin 727-32-0338, Revision 4, dated April 7, 2007. Do all applicable corrective actions before further flight. Repeat the inspection thereafter at intervals not to exceed 120 months.

(1) Within 48 months after the last MLG overhaul.

(2) Within 6 months after the effective date of this AD.

(3) Within 120 months after the last MLG overhaul for airplanes on which the actions in Boeing Special Attention Service Bulletin 727-32-0338, Revision 4, dated April 7, 2007, have been accomplished before the effective date of this AD.

Prior/Concurrent Requirements

(g) Prior to or concurrently with the actions required by paragraph (f) of this AD: Do all applicable actions specified in the service bulletins listed in Table 1 of this AD. Where the lubrication and corrosion protection procedures in any service bulletin listed in Table 1 of this AD differ from those in Boeing Special Attention Service Bulletin 727-32-0338, Revision 4, dated April 7, 2007, use the procedures in Boeing Special Attention Service Bulletin 727-32-0338, Revision 4.

Table 1.—Prior/Concurrent Requirements
For— | Service Bulletin— | Describes procedures for these prior or concurrent actions—
(1) All airplanes | Boeing Special Attention 727-32-0411, Revision 1, dated February 19, 2007 | Inspecting for corrosion or cracking of the threads and thread relief area of the swivel clevis, and improving the corrosion protection of the swivel clevis fitting threads in commonly affected airplanes.
(2) Airplanes specified as Options III, IV and V configurations in Boeing Special Attention Service Bulletin 727-32-0338, Revision 4 | Boeing 727 Service Bulletin 32-79, Revision 1, dated February 27, 1967. | Modifying the MLG side strut universal joint.
| Boeing 727 Service Bulletin 32-157, dated August 30, 1968. | Replacing the MLG side strut swivel bushing, incorporating only parts kit 65-89855-1, and not installing the lube fitting in the lower segment.
(3) Airplanes specified as Option V configuration in Boeing Special Attention Service Bulletin 727-32-0338, Revision 4 | Boeing Service Bulletin 727-32-268, Revision 2, dated February 20, 1981. | Inspecting and modifying the MLG side strut.
| Boeing Service Bulletin 727-57-163, dated September 17, 1982. | Resolving the interference between the MLG gear beam and the MLG side strut.

Alternative Methods of Compliance (AMOCs)

(h)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(i) You must use the applicable service information listed in Table 2 of this AD to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information that is incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Table 2.—Material Incorporated by Reference
Service Bulletin | Revision | Date
Boeing Special Attention Service Bulletin 727-32-0338 | 4 | April 7, 2007.
Boeing Special Attention Service Bulletin 727-32-0411 | 1 | February 19, 2007.
Boeing 727 Service Bulletin 32-157 | Original | August 30, 1968.
Boeing 727 Service Bulletin 32-79 | 1 | February 27, 1967.
Boeing Service Bulletin 727-32-268 | 2 | February 20, 1981.
Boeing Service Bulletin 727-57-163 | Original | September 17, 1982.

Issued in Renton, Washington, on March 28, 2008.
Ali Bahrami,
Manager, Transport Airplane Directorate, Aircraft Certification Service.

[FR Doc. E8-7176 Filed 4-11-08; 8:45 am]

BILLING CODE 4910-13-P